DEPARTMENT OF THE INTERIOR

National Park Service

[NPS-WASO-NAGPRA-NPS0037048; PPWOCRADN0-PCU00RP14.R50000]

Notice of Inventory Completion: U.S. Department of Agriculture, Forest Service, Sierra National Forest, Clovis, CA

AGENCY: National Park Service, Interior.

ACTION: Notice.

SUMMARY: In accordance with the Native American Graves Protection and Repatriation Act (NAGPRA), the U.S. Department of Agriculture, Forest Service, Sierra National Forest has completed an inventory of human remains and associated funerary objects and has determined that there is a cultural affiliation between the human remains and associated funerary objects and Indian Tribes or Native Hawaiian organizations in this notice. The human remains and associated funerary objects were removed from Fresno County, CA.

DATES: Repatriation of the human remains and associated funerary objects in this notice may occur on or after January 12, 2024.

ADDRESSES: Kim Sorini-Wilson, Sierra National Forest, 29688 Auberry Road, Prather, CA 93651, telephone (559) 855-5355, email kim.sorini@usda.gov.

SUPPLEMENTARY INFORMATION: This notice is published as part of the National Park Service's administrative responsibilities under NAGPRA. The determinations in this notice are the sole responsibility of the Sierra National Forest. The National Park Service is not responsible for the determinations in this notice. Additional information on the determinations in this notice, including the results of consultation, can be found in the inventory or related records held by the Sierra National Forest.

Description

In 1977, human remains representing, at minimum, five individuals were removed from sites CA-FRE-613 (1), CA-FRE-682 (1), CA-FRE-741 (2), and CA-FRE-747 (1) on the Sierra National Forest in Fresno County, CA, by Don Wren of Fresno City College (FCC) as part of planning for a proposed hydroelectric project. Sites CA-FRE-613, CA-FRE-682, CA-FRE-741, and CA-FRE-747 lie in the Sierra Nevada mountains and foothills on lands managed by the Forest Service. This area is well-documented ethnographically as the territory of the Holkoma people. All four sites include features and artifacts indicative of late-precontact occupation, and two of them also evidence a proto-historic occupation.

In January of 2017, an osteological examination of the faunal remains collected from the excavations and curated at FCC was conducted to determine if human remains were present. That examination resulted in the identification of the human remains listed in this notice. All the human remains are fragmentary. A total of two bone fragments and 27 teeth, representing a minimum of five individuals, were identified. No known individuals were identified. The 13 associated funerary objects are 11 beads (five glass, three shell, two steatite, one of unknown material) and two steatite sherds.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archaeological information, and geographical information.

Determinations

Pursuant to NAGPRA and its implementing regulations, and after consultation with the appropriate Indian Tribes and Native Hawaiian organizations, the Sierra National Forest has determined that:

• The human remains described in this notice represent the physical remains of at least five individuals of Native American ancestry.

• The 13 objects described in this notice are reasonably believed to have been placed with or near individual human remains at the time of death or later as part of the death rite or ceremony.

• There is a relationship of shared group identity that can be reasonably traced between the human remains and associated funerary objects described in this notice and the Cold Springs Rancheria of Mono Indians of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 12, 2024. If competing requests for repatriation are received, the Sierra National Forest must determine the most appropriate requestor prior to repatriation. Requests for joint repatriation of the human remains and associated funerary objects are considered a single request and not competing requests. The Sierra National Forest is responsible for sending a copy of this notice to the Indian Tribes and Native Hawaiian organizations identified in this notice.

Authority: Native American Graves Protection and Repatriation Act, 25 U.S.C. 3003, and the implementing regulations, 43 CFR 10.9, 10.10, and 10.14.

Dated: December 6, 2023.
Melanie O'Brien,
Manager, National NAGPRA Program.

[FR Doc. 2023-27363 Filed 12-12-23; 8:45 am]

BILLING CODE 4312-52-P